DEPARTMENT OF COMMERCE

Foreign-Trade Zones Board

[B-39-2016]

Foreign-Trade Zone (FTZ) 119—Minneapolis, Minnesota Authorization of Production Activity SICK, Inc.; (Electronic Industrial Sensors, Encoders, Optical Readers and Monitoring Systems) Savage, Minnesota

On May 17, 2016, the Greater Metropolitan Area Foreign-Trade Zone Commission, grantee of FTZ 119, submitted a notification of proposed production activity to the FTZ Board on behalf of Sick, Inc., within Subzone 119G, in Savage, Minnesota.

The notification was processed in accordance with the regulations of the FTZ Board (15 CFR part 400), including notice in the Federal Register inviting public comment (81 FR 37570, June 10, 2016). The FTZ Board has determined that no further review of the activity is warranted at this time. The production activity described in the notification is authorized, subject to the FTZ Act and the Board's regulations, including Section 400.14.

Dated: September 13, 2016.
Andrew McGilvray,
Executive Secretary.

[FR Doc. 2016-22399 Filed 9-16-16; 8:45 am]

BILLING CODE 3510-DS-P